DEPARTMENT OF ENERGY

Federal Energy Regulatory Commission

Sunshine Act Meeting

January 31, 2001.

The following notice of meeting is published pursuant to section 3(A) of the Government in the Sunshine Act (Pub. L. No. 94-409), 5 U.S.C 552B:

AGENCY HOLDING MEETING: Federal Energy Regulatory Commission.

DATE AND TIME: February 7, 2001, 10 a.m.

PLACE: Room 2C, 888 First Street, NE., Washington, DC 20426.

STATUS: Open.

MATTERS TO BE CONSIDERED: Agenda.

Note: Items listed on the agenda may be deleted without further notice.

CONTACT PERSON FOR MORE INFORMATION: David P. Boergers, Secretary, telephone (202) 208-0400. For a recording listing items stricken from or added to the meeting, call (202) 208-1627.

This is a list of matters to be considered by the Commission. It does not include a listing of all papers relevant to the items on the agenda; however, all public documents may be examined in the Reference and Information Center.

759th—Meeting—February 7, 2001, Regular Meeting (10:00 a.m.)

Consent Agenda—Markets, Tariffs and Rates—Electric

CAE-1.

OMITTED

CAE-2.

DOCKET# ER01-627, 000, EXELON GENERATION, LLC

OTHER#S ER01-627, 001, EXELON GENERATION, LLC

ER01-628, 000, COMMONWEALTH EDISON COMPANY AND COMMONWEALTH EDISON COMPANY OF INDIANA

ER01-628, 001, COMMONWEALTH EDISON COMPANY AND COMMONWEALTH EDISON COMPANY OF INDIANA

CAE-3.

OMITTED

CAE-4.

OMITTED

CAE-5.

OMITTED

CAE-6.

DOCKET# ER00-2362, 000, AMEREN SERVICES COMPANY

CAE-7.

DOCKET# ER01-797, 000, PACIFICORP

OTHER#S EL01-21, 000, CHEYENNE LIGHT, FUEL AND POWER COMPANY V. PACIFICORP

ER01-793, 000, PACIFICORP

CAE-8.

DOCKET# ER00-2669, 000, CENTRAL MAINE POWER COMPANY

CAE-9.

DOCKET# OA96-28, 000, PACIFIC GAS AND ELECTRIC COMPANY

OTHER#S ER95-980, 000, PACIFIC GAS AND ELECTRIC COMPANY

OA96-28, 002, PACIFIC GAS AND ELECTRIC COMPANY

OA96-28, 001, PACIFIC GAS AND ELECTRIC COMPANY

OA97-619, 000, PACIFIC GAS AND ELECTRIC COMPANY

CAE-10.

DOCKET# EC00-55, 001, CP&L HOLDINGS, INC. ON BEHALF OF ITSELF AND ITS PUBLIC UTILITY SUBSIDIARIES AND FLORIDA PROGRESS CORPORATION ON BEHALF OF ITSELF AND ITS PUBLIC UTILITY SUBSIDIARIES

OTHER#S ER00-1520, 002, CP&L HOLDINGS, INC. ON BEHALF OF ITSELF AND ITS PUBLIC UTILITY SUBSIDIARIES AND FLORIDA PROGRESS CORPORATION ON BEHALF OF ITSELF AND ITS PUBLIC UTILITY SUBSIDIARIES

CAE-11.

OMITTED

CAE-12.

DOCKET# EL00-94, 000, CITIZEN POWER INC. V. FIRSTENERGY CORPORATION AND THE FIRSTENERGY OPERATING COMPANIES

OTHER#S EL99-39, 000, CITIZEN POWER INC. V. DUQUESNE LIGHT COMPANY

EL99-40, 000, AMERICAN PUBLIC POWER ASSOCIATION AND CITIZEN POWER, INC

CAE-13.

OMITTED

CAE-14.

DOCKET# ER01-736, 000, AUTOMATED POWER EXCHANGE, INC

Consent Agenda—Markets, Tariffs and Rates—Gas

CAG-1.

OMITTED

CAG-2.

OMITTED

CAG-3.

OMITTED

CAG-4.

DOCKET# RP99-308, 003, NORTHWEST ALASKAN PIPELINE COMPANY

OTHER#S RP99-308, 001, NORTHWEST ALASKAN PIPELINE COMPANY

RP00-69, 000, NORTHWEST ALASKAN PIPELINE COMPANY

RP00-285, 000, NORTHWEST ALASKAN PIPELINE COMPANY

RP01-103, 000, NORTHWEST ALASKAN PIPELINE COMPANY

CAG-5.

DOCKET# RP96-275, 006, TENNESSEE GAS PIPELINE COMPANY

CAG-6.

DOCKET# RP00-247, 002, COLORADO INTERSTATE GAS COMPANY

CAG-7.

DOCKET# RP95-112, 026, TENNESSEE GAS PIPELINE COMPANY

OTHER#S RP95-112, 027, TENNESSEE GAS PIPELINE COMPANY

CAG-8.

DOCKET# RP00-298, 004, KERN RIVER GAS TRANSMISSION COMPANY

CAG-9.

DOCKET# RP00-205, 005, PG&E GAS TRANSMISSION, NORTHWEST CORPORATION

CAG-10.

DOCKET# RP00-428, 001, GREAT LAKES GAS TRANSMISSION LIMITED PARTNERSHIP

CAG-11.

DOCKET# RP00-566, 001, PG&E GAS TRANSMISSION, NORTHWEST CORPORATION

CAG-12.

DOCKET# MG01-1, 000, TRANSWESTERN PIPELINE COMPANY

CAG-13.

DOCKET# MG01-2, 000, FLORIDA GAS TRANSMISSION COMPANY

CAG-14.

DOCKET# MG01-3, 000, NORTHERN NATURAL GAS COMPANY

CAG-15.

DOCKET# MG01-5, 000, NORTHERN BORDER PIPELINE COMPANY

CAG-16.

DOCKET# MG01-7, 000, SEA ROBIN PIPELINE COMPANY

CAG-17.

DOCKET# MG00-7, 001, TEXAS GAS TRANSMISSION CORPORATION

CAG-18.

DOCKET# RP97-406, 029, DOMINION TRANSMISSION, INC

OTHER#S RP01-74, 004, DOMINION TRANSMISSION, INC

Consent Agenda—Energy Projects—Hydro

CAH-1.

DOCKET# P-10893, 003, HY POWER ENERGY COMPANY

CAH-2. OMITTED

CAH-3.

DOCKET# P-184, 060, EL DORADO IRRIGATION DISTRICT

CAH-4.

DOCKET# EL01-11, 000, LESTER C. REED V. GEORGIA POWER COMPANY

OTHER#S P-1951, 075, GEORGIA POWER COMPANY

CAH-5.

DOCKET# P-11685, 002, STOCKPORT MILL COUNTRY INN

CAH-6.

DOCKET# P-5, 058, PPL MONTANA, LLC, AND CONFEDERATED SALISH AND KOOTENAI TRIBES OF THE FLATHEAD NATION

Consent Agenda—Energy Projects—Certificates

CAC-1.

DOCKET# CP00-166, 000, WILLIAMS GAS PIPELINES CENTRAL, INC

CAC-2.

DOCKET# CP01-50, 000, THE MONTANA POWER COMPANY AND MONTANA POWER, L.L.C

CAC-3.

DOCKET# CP01-51, 000, THE MONTANA POWER COMPANY AND MONTANA POWER, L.L.C

CAC-4.

DOCKET# CP97-142, 001, DOMINION TRANSMISSION, INC

CAC-5.

DOCKET# CP01-14, 000, MAHUE CONSTRUCTION COMPANY.

CAC-6.

DOCKET# CP01-62, 000, NORTHWEST PIPELINE CORPORATION

Energy Projects—Hydro Agenda

H-1. RESERVED

Energy Projects—Certificates Agenda

C-1. RESERVED

Markets, Tariffs and Rates—Electric Agenda

E-1. RESERVED

Markets, Tariffs and Rates—Gas Agenda

G-1. RESERVED

David P. Boergers,
Secretary.

[FR Doc. 01-3032 Filed 2-2-01; 11:13 am]

BILLING CODE 6717-01-P